DEPARTMENT OF EDUCATION

Notice Announcing Availability of Funds and Application Deadline for the 2019 Temporary Emergency Impact Aid for Displaced Students Program; Disaster Recovery Assistance for Education

AGENCY: Office of Elementary and Secondary Education, Department of Education.

ACTION: Notice.

SUMMARY: The Department of Education (Department) is issuing a notice announcing the availability of funds and application deadline for the 2019 Temporary Emergency Impact Aid for Displaced Students (2019 Emergency Impact Aid) program under Title VIII of the Additional Supplemental Appropriations for Disaster Relief Act of 2019 (hereafter referred to as the Disaster Supplemental), Catalog of Federal Domestic Assistance (CFDA) number 84.938C. This notice relates to the approved information collection under OMB control number 1810-0739.

DATES:

Applications Available: September 13, 2019.

Deadline for Transmittal of Applications: For State educational agency (SEA) applicants, October 23, 2019.

For local educational agencies (LEAs) to submit applications to SEAs under the Emergency Impact Aid program: October 15, 2019.

ADDRESSES: The addresses pertinent to this program, including the addresses for obtaining and submitting an application, can be found under SUPPLEMENTARY INFORMATION.

FOR FURTHER INFORMATION CONTACT: Christopher Tate, U.S. Department of Education, Temporary Emergency Impact Aid for Displaced Students Program, 400 Maryland Avenue SW, Room 3W229, Washington, DC 20202-5970. Telephone: (202) 453-6047. Email: Christopher.Tate@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: Under the 2019 Emergency Impact Aid program, we will award grants to eligible SEAs to enable them to make emergency impact aid payments to eligible LEAs and eligible Bureau of Indian Education (BIE)-funded schools for costs incurred during the 2018-2019 school year as a result of educating public and non-public school students displaced by Hurricanes Florence and Michael, Typhoon Mangkhut, Super Typhoon Yutu, and wildfires, earthquakes, and volcanic eruptions occurring in calendar year 2018 and tornadoes and floods occurring in calendar year 2019 in those areas for which a major disaster or emergency is declared under section 401 or 501 of the Robert T. Stafford Disaster Relief and Emergency Act (42 U.S.C. 5170 and 5190) (referred to in this notice as “a covered disaster or emergency”).

Background: This notice announces the availability of funds and application deadline for eligible applicants for 2019 Emergency Impact Aid supported by the Disaster Supplemental, which was signed into law on June 6, 2019. The law provides $17.2 billion in FY 2019 supplemental appropriations to Federal departments and agencies for expenses related to the consequences of disasters in 2018 and 2019 for which a covered disaster or emergency has been declared, including $165 million for education-related disaster recovery activities. The Disaster Supplemental also provides the Secretary with the discretion to determine which authorized disaster recovery programs to fund. The Department plans to award funds through the 2019 Immediate Aid to Restart School Operations program, 2019 Emergency Impact Aid, Emergency Assistance to Institutions of Higher Education, and Project SERV (School Emergency Response to Violence). The amounts awarded under the 2019 Emergency Impact Aid program will be based on data received from eligible applicants.

Exemption from Rulemaking: This program is exempt from the rulemaking requirements in section 437 of the General Education Provisions Act (GEPA) (20 U.S.C. 1232) and section 553 of the Administrative Procedure Act (APA) (5 U.S.C. 553), as established in division B, subdivision 1, title VIII, “Hurricane Education Recovery” paragraph (6), of Public Law 115-123, the Bipartisan Budget Act of 2018, and title VIII of the Disaster Supplemental.

Program Authority: Title VIII of the Disaster Supplemental, Public Law 116-20 (enacted June 6, 2019).

Applicable Regulations: (a) The Education Department General Administrative Regulations in 34 CFR parts 76, 77, 79, 81, 82, 84, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The open licensing requirement in 2 CFR 3474.20 does not apply to the 2019 Emergency Impact Aid program.

II. Award Information

Estimated Available Funds: Congress appropriated $165 million to the Department under the Disaster Supplemental, of which the amounts awarded under this program and others authorized in the law will be based on demand and impact data received from eligible applicants. Awards to eligible applicants may be adjusted downward or upward to match available funding and need.

Period of Funding Availability: SEAs, LEAs, BIE-funded, and non-public schools must obligate funds received under this program by May 31, 2020, for expenses incurred during the 2018-2019 school year. SEAs must return to the Department any funds that are not obligated by SEAs, LEAs, or BIE-funded schools by this deadline.

III. Eligibility Information

1. Eligible Applicants: SEAs in any State, including the District of Columbia, the Commonwealth of Puerto Rico, and each of the outlying areas.

2. Cost Sharing or Matching: This program does not require cost sharing or matching.

3. Subgrantees: The SEA may use 2019 Emergency Impact Aid funds to make payments to eligible LEAs and BIE-funded schools for costs incurred during the 2018-2019 school year as a result of educating public and non-public school students displaced by a covered disaster or emergency.

IV. Application and Submission Information

1. Application Submission Instructions: Applications for this program must be submitted in both of the following two ways: (a) Submit an application in electronic portable document format (PDF) or Microsoft Word format via email to K12EmergencyImpactAid@ed.gov. Questions regarding application submission can be directed to the program contact person listed under FOR FURTHER INFORMATION CONTACT. (b) Mail the original and two copies of your application by express mail service through the U.S. Postal Service or through a commercial carrier to the program contact person listed under FOR FURTHER INFORMATION CONTACT.

2. Intergovernmental Review: This program is subject to Executive Order 12372 and the regulations in 34 CFR part 79. However, under 34 CFR 79.8(a), we waive intergovernmental review in order to make timely awards.

V. Application Review Information

1. Student Enrollment Data for the Emergency Impact Aid program: In the 2019 Emergency Impact Aid application for SEA funding, SEAs must report quarterly data on the numbers of displaced students enrolled in public, non-public, and BIE-funded schools as of four different count dates. SEAs must report separate counts of (a) displaced students with disabilities, (b) displaced English learners without disabilities, and (c) all other displaced students. The Department has identified four suggested quarterly count dates for identifying numbers of eligible displaced students: (i) October 1, 2018; (ii) December 1, 2018; (iii) February 1, 2019; and (iv) April 1, 2019. SEAs may use these dates or select count dates that fall within a 21-day range for each of the quarters, that is, within 10 calendar days before or after these dates. Each SEA must select four specific dates for the quarterly counts and use those dates consistently for all applicants within the SEA.

SEAs must submit enrollment data for all four quarters of the 2018-19 school year, which may include estimated data, in their initial 2019 Emergency Impact Aid applications.

We will use the enrollment data that are included in the SEA applications to make payments under the 2019 Emergency Impact Aid program.

We also are aware that it may take some time for SEAs and LEAs to count, retroactively for all four quarters of the 2018-19 school year, all eligible students, including students who subsequently may have moved to other States or LEAs. Therefore, SEAs are encouraged to provide their best available estimates of eligible students for each count date in their applications, and, in the event that they collect more satisfactory data that were not available at the time of application, they must amend their applications if they need to make upward or downward revisions to their initial child counts. The Secretary will make appropriate upward or downward revisions to subsequent payments, or request a refund for any overpayment, based on the final data provided by an SEA. SEAs must submit any application amendments affecting allocations under the 2019 Emergency Impact Aid program to the Department no later than January 31, 2020.

2. Other Requirements for 2019 Emergency Impact Aid: LEAs must make 2019 Emergency Impact Aid payments to accounts on behalf of displaced non-public school students within 14 calendar days of receiving payments from their SEAs.

The Secretary may solicit from any applicant at any time additional information needed to process an application for the program.

3. Special Funding Rule for 2019 Emergency Impact Aid: In calculating funding under the Impact Aid Basic Support Payments program, authorized under section 7003 of the Elementary and Secondary Education Act of 1965, as amended (ESEA) (20 U.S.C. 7703), for an eligible LEA that receives a 2019 Emergency Impact Aid payment, the Secretary does not count displaced students served by such agency for whom a 2019 Emergency Impact Aid payment is received under this section, nor are such students counted for the purpose of calculating the total number of children in average daily attendance at the schools served by such agency as provided in section 7003(b)(3)(B)(i) of the ESEA (20 U.S.C. 7703(b)(3)(B)(i)).

4. Risk Assessment and Specific Conditions: Consistent with 2 CFR 200.205, before awarding grants under this program, the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

5. Additional Monitoring: This program is designated as “susceptible to significant improper payments” for purposes of the Improper Payments Information Act of 2002 (31 U.S.C. 3321 note). See title VIII of the Disaster Supplemental, and Public Law 115-123, the Bipartisan Budget Act of 2018, division B, subdivision 1, title XII, § 21208(a), February 9, 2018, 132 Stat. 108. Consequently, if 2019 Emergency Impact Aid program grantees expend more than $10,000,000—a level of expenditures that the Department anticipates will be met—there will be additional requirements for grantees under the program, including making expenditure information and documentation available for review by the Department. We will provide additional information about this requirement after we make awards, providing advanced notice to ensure grantees understand their responsibilities for documenting all expenditures of 2019 Emergency Impact Aid funds. In general, these documentation requirements are identical to those ordinarily required for all Federal education program expenditures; the primary impact of the Improper Payments Information Act will be increased review of this documentation.

VI. Award Administration Information

1. Award Notices: If you receive a grant award under the 2019 Emergency Impact Aid program, we will notify your U.S. Representative(s) and U.S. Senators, if applicable, and send you a Grant Award Notification (GAN); or we may send you an email containing a link to access an electronic version of your GAN. We may also notify you informally.

2. Reporting: (a) If you apply for a grant under this program, you must ensure that you have in place the necessary processes and systems to comply with the reporting requirements in 2 CFR part 170 should you receive funding. This does not apply if you have an exception under 2 CFR 170.110(b).

(b) At the end of your project period, you must submit a final performance report, including financial information, as directed by the Secretary. The Secretary may also require more frequent performance reports under 34 CFR 75.720(c).

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Frank Brogan,
Assistant Secretary for Elementary and Secondary Education.

[FR Doc. 2019-19878 Filed 9-12-19; 8:45 am]

BILLING CODE 4000-01-P